DEPARTMENT OF COMMERCE

National Oceanic and Atmospheric Administration

[I.D. 120400B]

Fisheries of the Caribbean, Gulf of Mexico, and South Atlantic; Fishery Management Plan for the Dolphin and Wahoo Fishery of the Atlantic, Caribbean, and Gulf of Mexico

AGENCY: National Marine Fisheries Service (NMFS), National Oceanic and Atmospheric Administration (NOAA), Commerce.

ACTION: Notice of intent to prepare a draft environmental impact statement (DEIS); request for comments.

SUMMARY: The South Atlantic Fishery Management Council (South Atlantic Council) intends to prepare a DEIS to assess the impacts on the natural and human environment of the dolphin and wahoo fishery and of the management measures proposed for this fishery under the draft Fishery Management Plan for the Dolphin and Wahoo Fishery of the Atlantic, Caribbean and Gulf of Mexico. The purpose of this notice is to solicit public comments on the scope of the issues to be addressed in the DEIS.

ADDRESSES: Written comments on the scope of the DEIS and requests for additional information on the management measures proposed for the management of dolphin and wahoo in the Atlantic Ocean, Caribbean Sea, and Gulf of Mexico should be sent to the South Atlantic Fishery Management Council, One Southpark Circle, Suite 306, Charleston, SC 29407-4699; phone: 843-571-4366; fax: 843-769-4520.

DATES: Written comments on the scope of the issues to be addressed by the DEIS should be received by the Council by February 16, 2001.

FOR FURTHER INFORMATION CONTACT: Kim Iverson, 843-571-4366, or Steve Branstetter, 727-570-5305.

SUPPLEMENTARY INFORMATION: The South Atlantic Council is jointly preparing with the Gulf of Mexico Fishery Management Council (Gulf of Mexico Council) and the Caribbean Fishery Management Council (Caribbean Council) a draft Fishery Management Plan for the Dolphin and Wahoo Fishery of the Atlantic, Caribbean and Gulf of Mexico (FMP) The New England Fishery Management Council and the Mid-Atlantic Fishery Management Council are also cooperating in the FMP preparation.

The South Atlantic, Gulf of Mexico, and Carribean Councils intend that the FMP take a precautionary approach in conserving the dolphin and wahoo fishery resources throughout their range in the exclusive economic zone (EEZ) of the Atlantic, Gulf of Mexico, and Caribbean Sea. The FMP would have management objectives for the achievement of optimum yield from the dolphin and wahoo resources and the maintenance of current allocations among user groups. A draft environmental impact statement (DEIS) will be integrated into the draft FMP document.

The DEIS will describe the FMP’s proposed management measures and their reasonable alternatives and will assess the environmental impacts of these proposed and alternative measures. Based on considerable previous public input (see reference below to public hearings held to date on a preliminary draft of the FMP/DEIS), the South Atlantic, Gulf of Mexico, and Caribbean Councils have already identified a number of proposed FMP measures and their alternatives. The proposed management units for dolphin and wahoo would be defined as the populations of each species throughout their full management range in the Atlantic, Gulf of Mexico, and Caribbean EEZ. Alternative management units considered will include the establishment of three separate units for each species based on each Council's geographical area of jurisdiction. The DEIS will assess the environmental impacts of the FMP’s considered options for requiring dealer, vessel, and operator permits to participate in the fishery as well as the effects of any qualifying criteria, such as prior levels of participation in the fishery, for obtaining and maintaining permits. The DEIS will also evaluate the environmental impacts of the FMP’s considered alternatives for reporting requirements. The DEIS will assess the impacts of the FMP’s proposed and alternative biologically acceptable values, based on either biomass or fishing mortality rates, that define maximum sustainable yield, optimum yield, and overfishing and overfished conditions. The FMP and DEIS will identify and describe essential fish habitat (EFH) and EFH Habitat Areas of Particular Concern (EFH HAPCs) for dolphin and wahoo. The DEIS will assess the environmental impacts associated with the proposed and alternative EFH and EFH HAPCs; EFH/EFH HAPCs alternatives considered may include specific locales that are important to the continued health of the dolphin and wahoo stocks or areas of importance to a critical life stage of these species.

The FMP would establish a framework procedure allowing the South Atlantic, Gulf of Mexico, and Caribbean Councils to recommend new management measures and adjustments for existing measures, within specified limits, that could be approved and implemented (under the framework procedure) without having to amend the FMP. Also, the South Atlantic, Gulf of Mexico, and Caribbean Councils intend that the FMP provide each Council with the authority to recommend independently the establishment of harvesting restrictions for its respective area of jurisdiction. Such area-specific measures generally would be proposed, approved, and implemented under the FMP’s framework procedure. The environmental impacts of measures proposed later under the framework procedure would be assessed at the time of proposal.

To maintain healthy stocks of both dolphin and wahoo in the Atlantic, the South Atlantic Council intends that the FMP initially propose commercial trip limits, recreational bag and boat limits, minimum size limits, and allowable gears for the dolphin and wahoo fishery within its area of the EEZ. The Gulf of Mexico Council is considering several measures that would apply only to the Gulf of Mexico EEZ; these include establishment of specific dates for the fishing year and prohibition of the sale of recreationally caught fish. The DEIS will assess the environmental impacts of all of the FMP’s proposed area-specific measures and their considered alternatives.

The DEIS will evaluate the impacts of the FMP’s proposed allocation of the majority of the catch to the recreational sector. This allocation is intended to preserve the historical contribution of the recreational sector to the total fishery. To ensure economic stability for the established commercial fishery, the FMP would propose a restriction on or a prohibition of the sale of fish caught in the recreational fishery.

Based on input received during 17 public hearings held to date on a preliminary draft of the FMP/DEIS, the South Atlantic Council intends to prepare a revised draft FMP and to finalize the DEIS covering its environmental impacts. Because of the previous considerable opportunities for public input, the South Atlantic Council has scheduled no specific scoping meetings for the DEIS. However, the South Atlantic Council is requesting written comments on the scope of the issues to be addressed in the DEIS.

Once the South Atlantic Council completes the DEIS, it will submit it to NMFS for filing with the Environmental Protection Agency (EPA). EPA will publish in the Federal Register a notice of availability of the DEIS for public comment. This procedure is pursuant to the Council on Environmental Quality’s regulations for implementing the procedural provisions of The National Environmental Policy Act (NEPA; 40 CFR Parts 1500-1508) and to NOAA’s Administrative Order 216-6 regarding NOAA’s compliance with NEPA.

The South Atlantic, Gulf of Mexico, and Caribbean Fishery Management Councils intend to consider public comments received on the DEIS before adopting final management measures for a final FMP. The South Atlantic Council intends to prepare a final environmental impact statement (FEIS) in support of the final FMP. The three Councils would then submit the final FMP/FEIS to NMFS for Secretarial review, approval, and implementation under the Magnuson-Stevens Act. During Secretarial review, NMFS will file the FEIS with EPA for announcement of a final comment period on the FEIS (again, through publication of a notice in the Federal Register). This comment period will be concurrent with the Secretarial review period, during which NMFS will invite public comment on the final FMP and proposed implementing regulations (Secretarial review comment periods are announced through publication in the Federal Register). NMFS will consider all public comment received during the Secretarial review period, whether on the FMP, FEIS, or proposed regulations, prior to taking final agency action to approve, disapprove, or partially approve the FMP.

Copies of the draft FMP may be obtained by contacting Kim Iverson at the Council (see ADDRESSES).

Authority: 16 U.S.C. 1801 et seq.

Dated: January 10, 2001.
Bruce C. Morehead,
Acting Director, Office of Sustainable Fisheries, National Marine Fisheries Service.

[FR Doc. 01-1378 Filed 1-16-01; 8:45 am]

BILLING CODE 3510-22-S